DEPARTMENT OF TRANSPORTATION

Federal Aviation Administration

14 CFR Part 39

[Docket No. FAA-2019-0970; Product Identifier 2018-SW-089-AD]

RIN 2120-AA64

Airworthiness Directives; Airbus Helicopters

AGENCY: Federal Aviation Administration (FAA), DOT.

ACTION: Notice of proposed rulemaking (NPRM).

SUMMARY: The FAA proposes to adopt a new airworthiness directive (AD) for Airbus Helicopters Model AS332C, AS332C1, AS332L, AS332L1, and AS332L2 helicopters. This proposed AD would require removing the drain plugs from the fuel tank compartments located under the bottom structure. This proposed AD is prompted by the discovery that a modification to the fuel tank could lead to fuel accumulating in an area containing electrical equipment and subsequent ignition of fuel vapors. The actions of this proposed AD are intended to address an unsafe condition on these products.

DATES: The FAA must receive comments on this proposed AD by February 3, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2019-0970; or in person at Docket Operations between 9 a.m. and 5 p.m., Monday through Friday, except Federal holidays. The AD docket contains this proposed AD, the European Aviation Safety Agency (EASA) AD, the economic evaluation, any comments received, and other information. The street address for Docket Operations is listed above. Comments will be available in the AD docket shortly after receipt.

For service information identified in this proposed rule, contact Airbus Helicopters, 2701 N Forum Drive, Grand Prairie, TX 75052; telephone 972-641-0000 or 800-232-0323; fax 972-641-3775; or at https://www.airbus.com/helicopters/services/technical-support.html. You may review the referenced service information at the FAA, Office of the Regional Counsel, Southwest Region, 10101 Hillwood Pkwy., Room 6N-321, Fort Worth, TX 76177.

FOR FURTHER INFORMATION CONTACT: Jignesh Patel, Aerospace Engineer, Safety Management Section, Rotorcraft Standards Branch, FAA, 10101 Hillwood Pkwy., Fort Worth, TX 76177; telephone 817-222-5110; email jignesh.patel@faa.gov.

SUPPLEMENTARY INFORMATION:

Comments Invited

The FAA invites you to participate in this rulemaking by submitting written comments, data, or views. The FAA also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Discussion

EASA, which is the Technical Agent for the Member States of the European Union, has issued EASA AD No. 2018-0209, dated September 21, 2018 (EASA AD 2018-0209), to correct an unsafe condition for Airbus Helicopters (formerly Eurocopter, Eurocopter France, Aerospatiale) Model AS 332 C, AS 332 C1, AS 332 L, AS 332 L1, and AS 332 L2 helicopters, except those with modification 0726383.

EASA advises that during production of AS332 helicopters, closure of the fuel tank drains with plugs was implemented. EASA states that this closure disregards compliance with an airworthiness certification requirement and in the event of fuel leakage in flight, a closed fuel drain creates the risk of fuel accumulation and/or migration to an adjacent area. EASA advises this area may contain electrical equipment that could be susceptible to creating a source of ignition. EASA states this condition, if not corrected, could result in the ignition of fuel vapors, resulting in a fire causing damage to the helicopter or injury to the occupants.

Accordingly, EASA AD 2018-0209 requires modification of the draining system of the fuel tank compartments by removing the drain plugs from the fuel tank compartments located under the bottom structure.

FAA's Determination

These helicopters have been approved by EASA and are approved for operation in the United States. Pursuant to the FAA's bilateral agreement with the European Union, EASA has notified the FAA about the unsafe condition described in its AD. The FAA is proposing this AD after evaluating all known relevant information and determining that an unsafe condition is likely to exist or develop on other products of the same type designs.

Related Service Information Under 1 CFR Part 51

The FAA reviewed Airbus Helicopter Alert Service Bulletin No. AS332-53.01.62, Revision 1, dated May 28, 2019 (ASB AS332-53.01.62, Revision 1), for Model AS332C, AS332C1, AS332L, AS332L1, and AS332L2 helicopters. This service information contains procedures for removing the drain plugs from the fuel tank compartments located under the bottom structure of the helicopter. This service information also specifies that the number of drain plugs varies depending on the version of the helicopter.

This service information is reasonably available because the interested parties have access to it through their normal course of business or by the means identified in the ADDRESSES section.

Other Related Service Information

The FAA also reviewed Airbus Helicopters ASB No. AS332-53.01.62, Revision 0, dated June 7, 2018 (AS332-53.01.62, Revision 0). AS332-53.01.62, Revision 0, contains the same procedures as AS332-53.01.62, Revision 1. However, AS332-53.01.62, Revision 1, also addresses military versions.

Proposed AD Requirements

This proposed AD would require removing the drain plugs from the fuel tank compartments.

Costs of Compliance

The FAA estimates that this proposed AD would affect 11 helicopters of U.S. Registry. The FAA estimates that operators may incur the following costs in order to comply with this AD. Labor costs are estimated at $85 per work-hour.

Removing the 6 drain plugs installed on Model AS332C and AS332C1 helicopters would take about 2 work-hours for an estimated cost of $170 per helicopter and $170 for the U.S. fleet size of 1 helicopter.

Removing the 7 drain plugs installed on Model AS332L, AS332L1, and AS332L2 helicopters would take about 2 work-hours for an estimated cost of $170 per helicopter and $1,700 for the U.S. fleet size of 10 helicopters.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

The FAA prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2019-0970; Product Identifier 2018-SW-089-AD.

(a) Applicability

This AD applies to Airbus Helicopters Model AS332C, AS332C1, AS332L, AS332L1, and AS332L2 helicopters, certificated in any category, except those with modification 0726383 installed.

(b) Unsafe Condition

This AD defines the unsafe condition as closure of fuel tank drains. This condition could result in fuel accumulating in an area containing electrical equipment and ignition of fuel vapors. This condition could result in a fire and subsequent damage to the helicopter or injury to the occupants.

(c) Comments Due Date

The FAA must receive comments by February 3, 2020.

(d) Compliance

You are responsible for performing each action required by this AD within the specified compliance time unless it has already been accomplished prior to that time.

(e) Required Actions

Within 110 hours time-in-service or during the next scheduled maintenance, whichever occurs first:

(1) For Model AS332C and AS332C1 helicopters, remove the 6 fuel tank drain plugs by following the Accomplishment Instructions, paragraph 3.B.2. of Airbus Helicopters Alert Service Bulletin No. AS332-53.01.62, Revision 1, dated May 28, 2019 (ASB AS332-53.01.62), except you are not required to place the drain plugs in stock.

(2) For Model AS332L, AS332L1, and AS332L2 helicopters, remove the 7 fuel tank drain plugs by following the Accomplishment Instructions, paragraph 3.B.2. of ASB AS332-53.01.62, except you are not required to place the drain plugs in stock.

(f) Credit for Previous Actions

Actions accomplished before the effective date of this AD in accordance with the procedures specified in Airbus Helicopters Alert Service Bulletin No. AS332-53.01.62, Revision 0, dated June 7, 2018, are considered acceptable for compliance with the corresponding actions specified in paragraph (e) of this AD.

(g) Alternative Methods of Compliance (AMOCs)

(1) The Manager, Safety Management Section, Rotorcraft Standards Branch, FAA, may approve AMOCs for this AD. Send your proposal to: Jignesh Patel, Aerospace Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

(1) Airbus Helicopters Alert Service Bulletin No. AS332-53.01.62, Revision 0, dated June 7, 2018, which is not incorporated by reference, contains additional information about the subject of this AD. For service information identified in this AD, contact Airbus Helicopters, 2701 N Forum Drive, Grand Prairie, TX 75052; telephone 972-641-0000 or 800-232-0323; fax 972-641-3775; or at https://www.airbus.com/helicopters/services/technical-support.html. You may review the referenced service information at the FAA, Office of the Regional Counsel, Southwest Region, 10101 Hillwood Pkwy., Room 6N-321, Fort Worth, TX 76177.

(2) The subject of this AD is addressed in European Aviation Safety (EASA) AD No. 2018-0209, dated September 21, 2018. You may view the EASA AD on the internet at https://www.regulations.gov in the AD Docket.

(i) Subject

Joint Aircraft Service Component (JASC) Code: 2810, Fuel Storage.

Issued in Fort Worth, Texas, on November 25, 2019.
Lance T. Gant,
Director, Compliance & Airworthiness Division, Aircraft Certification Service.

[FR Doc. 2019-26079 Filed 12-2-19; 8:45 am]

BILLING CODE 4910-13-P